DEPARTMENT OF ENERGY

Federal Energy Regulatory Commission

Combined Notice of Filings #2

Take notice that the Commission received the following electric corporate filings:

Docket Numbers: EC16-117-000.

Applicants: Northern States Power Company, a Wisconsin Corporation.

Description: Application of Northern States Power Company, a Wisconsin corporation for Authorization under FPA Section 203 to Acquire Jurisdictional Assets.

Filed Date: 5/10/16.

Accession Number: 20160510-5106.

Comments Due: 5 p.m. ET 5/31/16.

Take notice that the Commission received the following electric rate filings:

Docket Numbers: ER13-78-010.

Applicants: UNS Electric, Inc.

Description: Compliance filing: Attachment K Compliance Filing to be effective 10/1/2015.

Filed Date: 5/10/16.

Accession Number: 20160510-5113.

Comments Due: 5 p.m. ET 5/31/16.

Docket Numbers: ER13-415-003.

Applicants: Anahau Energy, LLC.

Description: Supplement to December 31, 2015 Triennial market power update of Anahau Energy, LLC for SPP region.

Filed Date: 5/10/16.

Accession Number: 20160510-5105.

Comments Due: 5 p.m. ET 5/31/16.

Docket Numbers: ER16-1398-002.

Applicants: Provision Power & Gas, LLC.

Description: Tariff Amendment: Market-Based Rates Tariff to be effective 5/1/2016.

Filed Date: 5/10/16.

Accession Number: 20160510-5098.

Comments Due: 5 p.m. ET 5/31/16.

Docket Numbers: ER16-1411-001.

Applicants: CNR Energy LLC.

Description: Tariff Amendment: Amendment of CNR Energy LLC Baseline MBR Filing to be effective 7/1/2016.

Filed Date: 5/10/16.

Accession Number: 20160510-5085.

Comments Due: 5 p.m. ET 5/31/16.

Docket Numbers: ER16-1652-000.

Applicants: LifeEnergy LLC.

Description: Baseline eTariff Filing: Application for Market-Based Rate Authorization to be effective 5/10/2016.

Filed Date: 5/9/16.

Accession Number: 20160509-5166.

Comments Due: 5 p.m. ET 5/31/16.

Docket Numbers: ER16-1654-000.

Applicants: Balance Power Systems, LLC.

Description: Notice of cancellation of market based tariff of Balance Power Systems, LLC.

Filed Date: 5/10/16.

Accession Number: 20160510-5100.

Comments Due: 5 p.m. ET 5/31/16.

Docket Numbers: ER16-1655-000.

Applicants: PacifiCorp.

Description: Section 205(d) Rate Filing: WAPA Non-Conforming SGIA ? Olmsted Hydro to be effective 5/3/2016.

Filed Date: 5/10/16.

Accession Number: 20160510-5108.

Comments Due: 5 p.m. ET 5/31/16.

Docket Numbers: ER16-1656-000.

Applicants: Midcontinent Independent System Operator, Inc.

Description: Section 205(d) Rate Filing: 2016-05-10_SA 2918 GRE-NSPM Paynesville-Hawick T-TIA to be effective 5/11/2016.

Filed Date: 5/10/16.

Accession Number: 20160510-5119.

Comments Due: 5 p.m. ET 5/31/16.

Docket Numbers: ER16-1657-000.

Applicants: Southern California Edison Company.

Description: Section 205(d) Rate Filing: SGIA and LGIA with AES Tehachapi Wind, LLC to be effective 5/1/2016.

Filed Date: 5/10/16.

Accession Number: 20160510-5127.

Comments Due: 5 p.m. ET 5/31/16.

Docket Numbers: ER16-1658-000.

Applicants: Southern California Edison Company.

Description: Section 205(d) Rate Filing: 2016 Revised Added Facilities Rate under TO—Filing No. 4 to be effective 7/10/2016.

Filed Date: 5/10/16.

Accession Number: 20160510-5129.

Comments Due: 5 p.m. ET 5/31/16.

Docket Numbers: ER16-1659-000.

Applicants: PJM Interconnection, L.L.C.

Description: Section 205(d) Rate Filing: Original Interim ISA No. 4455, Queue No. AA1-038 to be effective 4/14/2016.

Filed Date: 5/10/16.

Accession Number: 20160510-5137.

Comments Due: 5 p.m. ET 5/31/16.

Docket Numbers: ER16-1660-000.

Applicants: Wolverine Power Supply Cooperative, Inc.

Description: Initial rate filing: Van Tyle Transmission Facilities Agreement to be effective 5/5/2016.

Filed Date: 5/10/16.

Accession Number: 20160510-5147.

Comments Due: 5 p.m. ET 5/31/16.

Docket Numbers: ER16-1661-000.

Applicants: Wolverine Power Supply Cooperative, Inc.

Description: Initial rate filing: Van Tyle Transmission Facilities Agreement to be effective 5/5/2016.

Filed Date: 5/10/16.

Accession Number: 20160510-5159.

Comments Due: 5 p.m. ET 5/31/16.

The filings are accessible in the Commission's eLibrary system by clicking on the links or querying the docket number.

Any person desiring to intervene or protest in any of the above proceedings must file in accordance with Rules 211 and 214 of the Commission's Regulations (18 CFR 385.211 and 385.214) on or before 5:00 p.m. Eastern time on the specified comment date. Protests may be considered, but intervention is necessary to become a party to the proceeding.

eFiling is encouraged. More detailed information relating to filing requirements, interventions, protests, service, and qualifying facilities filings can be found at: http://www.ferc.gov/docs-filing/efiling/filing-req.pdf. For other information, call (866) 208-3676 (toll free). For TTY, call (202) 502-8659.

Dated: May 10, 2016.
Nathaniel J. Davis, Sr.,
Deputy Secretary.

[FR Doc. 2016-11519 Filed 5-13-16; 8:45 am]

BILLING CODE 6717-01-P